NATIONAL CRIME PREVENTION AND PRIVACY COMPACT COUNCIL

Fingerprint Submission Requirement Rule

AGENCY: National Crime Prevention and Privacy Compact Council.

ACTION: Notice of the Compact Council's approval of a Transportation Security Administration proposal to utilize the Fingerprint Submission Requirements Rule, Title 28 Code of Federal Regulations (CFR), part 901.

Authority: 42 U.S.C. 14616.

SUMMARY: Pursuant to 28 CFR part 901, the Compact Council (Council), established by the National Crime Prevention and Privacy Compact Act of 1998 (Compact), has approved a proposal from the Transportation Security Administration (TSA) to access the Interstate Identification Index (III) System on a delayed fingerprint submission basis for conducting criminal history record checks on individuals requesting issuance or renewal of a hazardous materials (hazmat) endorsement on a commercial driver's license (CDL). (See attached Proposal.) The TSA requested approval of its proposal to conduct preliminary III name-based checks as a responsive and timely avenue to support security threat assessments on all individuals seeking a hazmat endorsement as mandated by section 1012 of the Uniting and Strengthening America by Providing Appropriate Tools Required to Intercept and Obstruct Terrorism Act of 2001 (USA PATRIOT Act). The approval of TSA's proposal is a temporary measure to be used while its infrastructure for fingerprint-based criminal history record checks is being developed.

This notice and TSA's proposal act as companion documents to facilitate TSA's interim final rule published in the Federal Register on May 5, 2003 (49 CFR parts 1570 and 1572, 68 FR 23852). The TSA interim final rule was published in coordination with the Federal Motor Carrier Safety Administration's (FMCSA) interim final rule published in the Federal Register on the same date (49 CFR parts 383 and 384, 68 FR 23844). The FMCSA interim final rule amends the Federal Motor Carrier Safety Regulations governing commercial drivers licenses to prohibit states from issuing, renewing, transferring, or upgrading a commercial driver's license with a hazmat endorsement unless the Department of Justice has first conducted a background records check of the applicant and the TSA has determined that the applicant does not pose a security threat warranting denial of the hazmat endorsement.

FOR FURTHER INFORMATION CONTACT: Todd C. Commodore, FBI CJIS Division, 1000 Custer Hollow Road, Module C3, Clarksburg, WV 26306; Telephone (304) 625-2803; e-mail tcommodo@leo.gov; Fax number (304) 625-5388.

SUPPLEMENTARY INFORMATION: See attached proposal.

Dated: July 15, 2003.
Wilbur W. Rehmann,
Chairman, Compact Council.

Formal Request Memorandum to the Compact Council

The Transportation Security Administration (TSA) seeks approval under Parts 901.2 and 901.3 of title 28, Code of Federal Regulations, for access to the National Crime Information Center (NCIC) (including the Interstate Identification Index (III)), on a delayed fingerprint submission basis, so that name-based criminal history records checks can be conducted expeditiously on certain commercial truck drivers. The USA PATRIOT Act, Pub. L. 107-56, Section 1012, et seq.; 49 U.S.C. 5103a)¹ requires a background check for any individual authorized or seeking to carry hazardous materials (hazmat). TSA will carry out this statutory provision as set forth below.

¹ In pertinent part, the Act reads:

A. 5103a(a) Limitation.

(1) Issuance of licenses. A State may not issue to any individual a license to operate a motor vehicle transporting in commerce a hazardous material unless the Secretary of Transportation has first determined, upon receipt of a notification under subsection (c)(1)(B), that the individual does not pose a security risk warranting denial of the license* * *.

(c) Background records check.

(1) In general. Upon the request of a State regarding issuance of a license described in subsection (a)(1) to an individual, the Attorney General—

(A) shall carry out a background records check regarding the individual; and

(B) upon completing the background records check, shall notify the Secretary of Transportation of the completion and results of the background records check.

(2) Scope. A background records check regarding an individual under this subsection shall consist of the following:

(A) A check of the relevant criminal history databases.

(B) In the case of an alien, a check of the relevant data bases to determine the status of the alien under the immigration laws of the United States.

(C) As appropriate, a check of the relevant international databases through Interpol-U.S. National Central Bureau or other appropriate means.

A. Name-based background checks will be initiated on [effective date of the rule]. If the background check discloses a conviction or incarceration for a disqualifying offense within the time periods specified in the Interim Final Rule, TSA will notify the individual that he or she is disqualified from transporting hazmat. If the individual asserts that the results of the name-based background check are not accurate, the individual will submit fingerprints and/or relevant court documents so that the record may be corrected or the disqualifying offense may be verified.

B. Drivers whose name-based background checks do not indicate a disqualifying offense or incarceration within the time periods specified in the Interim Final Rule will be required to submit fingerprints in the period between 180 days and 5 (five) years from the effective date of the Interim Final Rule, or when applying for a new or renewed hazmat endorsement of their Commercial Driver's License (CDL), whichever occurs first.

C. If a name-based background check discloses that a driver is the subject of an outstanding felony want or warrant, TSA will ensure that the appropriate law enforcement agency is notified.

Such criminal history records checks are to include the review of available law enforcement databases and records as determined necessary by the Administrator of the Transportation Security Administration. In addition, TSA will be accessing other data sources as part of its effort to conduct background checks on commercial truck drivers who are authorized to carry hazardous materials.

TSA makes this request for the following reasons:

• In accordance with the USA PATRIOT Act, TSA must process criminal history records checks on more than three million commercial truck drivers who transport hazardous materials.

• Congress has determined that conducting background checks on commercial truck drivers transporting hazardous materials is a national priority. Given this urgency and the enormous volume of drivers to be checked, it is vital that TSA be given some latitude in conducting the background checks by first utilizing name-based checks while the infrastructure for fingerprint-based checks is put in place.

• TSA believes there are considerable gains in security to be made by using name-based background checks followed by fingerprint-based checks.

TSA proposes to carry out name-based background checks within the following parameters:

A. At the first Compact Council meeting following the conduct of name-based background checks for at least 180 days (“180-day test period”), TSA shall report back to the Compact Council. During a period of 180 days, TSA will work with the following entities to develop a comprehensive infrastructure for capturing and processing fingerprints of hazmat CDL holders:

a. The Compact Council;

b. State central repositories;

c. State Departments of Motor Vehicles (DMVs);

d. The CJIS Division of the FBI, including its Advisory Policy Council;

e. SEARCH;

f. The International Association of Chiefs of Police (IACP); and

g. The American Association of Motor Vehicle Administrators.

B. The public will be notified in advance that drivers will be subject to a name-based background check. The mechanisms for notification will include the Federal Register and communications with the States, the trucking industry, and the driver corps.

C. In no more than 180 days, TSA will have the infrastructure in place to begin fingerprinting all current HAZMAT drivers.

D. All fees for fingerprint collection and processing will be borne by the individual subject to the background check, or by his or her employer.

TSA proposes use of NCIC (including III) to determine whether applicants present a potential terrorist threat or may otherwise be a threat to transportation security. Given the terrorist threat level in transportation, existing statutory mandates, and the lack of adequate infrastructure to conduct fingerprint-based checks, TSA proposes to draw on the ability of NCIC (including III) to provide criminal history data on hazmat drivers.

Approved: March 13, 2003.

Francine J. Kerner,

Transportation Security Administration.

Agreed to: March 13, 2003.

Wilbur W. Rehmann

Compact Council.

[FR Doc. 03-23916 Filed 9-18-03; 8:45 am]

BILLING CODE 4410-02-P